SOCIAL SECURITY ADMINISTRATION

Agency Information Collection Activities: Proposed Request and Comment Request

The Social Security Administration (SSA) publishes a list of information collection packages requiring clearance by the Office of Management and Budget (OMB) in compliance with Public Law (Pub. L.) 104-13, the Paperwork Reduction Act of 1995, effective October 1, 1995. This notice includes revisions and extensions of OMB-approved information collections and a new collection.

SSA is soliciting comments on the accuracy of the agency's burden estimate; the need for the information; its practical utility; ways to enhance its quality, utility, and clarity; and ways to minimize the burden on respondents, including the use of automated collection techniques or other forms of information technology. Mail, email, or fax your comments and recommendations on the information collection(s) to the OMB Desk Officer and the SSA Director for Reports Clearance to the addresses or fax numbers shown below.

(OMB), Office of Management and Budget, Attn: Desk Officer for SSA, Fax: 202-395-6974, E-mail address: OIRA_Submission@omb.eop.gov

(SSA), Social Security Administration, DCBFM, Attn: Director, Center for Reports Clearance, 1333 Annex Building, 6401 Security Blvd., Baltimore, MD 21235, Fax: 410-965-0454, E-mail address: OPLM.RCO@ssa.gov.

I. The information collection below is pending at SSA. SSA will submit it to OMB within 60 days from the date of this notice. To be sure we consider your comments, we must receive them no later than October 6, 2009. Individuals can obtain copies of the collection instrument by calling the SSA Director for Reports Clearance at 410-965-0454 or by writing to the email address we list above.

1. Employment Relationship Questionnaire—20 CFR 404.1007—0960-0040. SSA obtains information on Form SSA-7160-F4 to determine a worker's employment status; i.e., whether, under the definition of an employee found in Section 210(j)(2) of the Act and 20 CFR 404.1007 of the Code of Federal Regulations, a worker is an employee under the “usual common-law rules” applicable in determining the existence of an employer-employee relationship. We use the information to develop the employment relationship, and to determine whether a beneficiary is self-employed or an employee. The respondents are individuals questioning their status as employees and their alleged employers.

Type of Request: Extension of an OMB-approved information collection.

Number of Respondents: 16,000.

Frequency of Response: 1.

Average Burden per Response: 25 minutes.

Estimated Annual Burden: 6,667 hours.

2. Continuing Disability Review Report—20 CFR 404.1589, 416.989—0960-0072. SSA may conduct a review to determine whether individuals receiving disability benefits continue to be entitled to or eligible for those benefits. SSA uses Form SSA-454 to collect the information needed to complete the review for continued disability from recipients or from their representatives. SSA conducts reviews on a periodic basis depending on the respondent's disability. We obtain information on sources of medical treatment, participation in vocational rehabilitation programs (if any), attempts to work (if any), and the opinions of individuals regarding whether their conditions have improved. The respondents are Title II and/or Title XVI disability recipients, or their representatives.

Type of Request: Revision of an OMB approved information collection.

Modality of completion | Number of respondents | Frequency of response | Average burden per response (minutes) | Total annual burden (hours)
SSA-454-BK | 258,700 | 1 | 60 | 258,700
SSA-454-ICR | 300 | 1 | 30 | 150
EDCS Interview | 300 | 1 | 30 | 150
Total | 259,300 |  |  | 259,000

3. Authorization for the Social Security Administration To Obtain Account Records From a Financial Institution and Request for Records—20 CFR 416.200, 416.203—0960-0293. Individuals must authorize financial institutions to disclose records to SSA by signing an SSA-4641-U2. Financial institutions use the Form to provide financial information to SSA. We need the information if an individual's records are incomplete, unavailable, or appear altered. SSA uses the records to verify the existence, ownership, and value of accounts owned by Supplemental Security Income (SSI) applicants, recipients, and deemors. The financial institution's report is used, in part, to determine whether SSI resource eligibility requirements are met. The respondents are SSI applicants', recipients', or deemors' financial institutions.

Type of Request: Revision of an OMB-approved information collection.

Number of Respondents: 500,000.

Frequency of Response: 1.

Average Burden per Response: 6 minutes.

Estimated Annual Burden: 50,000 hours.

1. Internet Request for Replacement of Forms SSA-1099/SSA-1042S—20 CFR 401.45—0960-0583. Recipients use the SSA-1099 and SSA-1042S to determine if their Social Security benefits are taxable and the amount they need to report to the Internal Revenue Service. An individual may use SSA's Internet request form to obtain a replacement SSA-1099 and SSA-1042S. SSA uses the information from the Internet request form to verify the identity of the requestor and to provide replacement copies of the forms. The Internet option eliminates the need for phone calls to the national 800 number, or visits to a local field office. The respondents are Title II recipients who wish to request a replacement SSA-1099/SSA-1042S via the Internet.

Type of Request: Extension of an OMB-approved information collection.

Number of Respondents: 136,455.

Frequency of Response: 1.

Average Burden per Response: 10 minutes.

Estimated Annual Burden: 22,743 hours.

II. SSA has submitted the information collections we list below to OMB for clearance. Your comments on the information collections would be most useful if OMB and SSA receive them within 30 days from the date of this publication. To be sure we consider your comments, we must receive them no later than September 8, 2009. You can obtain a copy of the OMB clearance packages by calling the SSA Director for Reports Clearance at 410-965-0454 or by writing to the above email address.

1. Questionnaire about Special Veterans Benefits—0960-NEW. SSA must make deductions to Social Security Special Veterans benefits when an individual receives income, in excess of set limits, from an activity outside the United States. SSA collects information on Form SSA-2010 to determine continuing entitlement to Social Security Special Veterans Benefits and the proper benefit amount for beneficiaries living outside the U.S. Based on the information, SSA may increase, decrease, suspend or terminate benefits. The respondents are Special Veterans Benefits recipients.

Type of Request: Request for a new information collection.

Number of Respondents: 2,500.

Frequency of Response: 1.

Average Burden per Response: 20 minutes.

Estimated Annual Burden: 833 hours.

1. Certificate of Election for Reduced Spouse's Benefits—20 CFR 404.421—0960-0398. SSA will not pay reduced benefits to an already entitled spouse, at least age 62 but under full retirement age, who no longer has a child in care unless the spouse elects to receive reduced benefits. To elect reduced benefits, the spouse must complete Form SSA-25. SSA uses the information from Form SSA-25 to pay a qualified spouse a reduced benefit. Respondents are entitled spouses seeking reduced benefits.

Type of Request: Revision of an OMB-approved information collection.

Number of Respondents: 30,000.

Frequency of Response: 1.

Average Burden per Response: 2 minutes.

Estimated Annual Burden: 1,000 hours.

Dated: July 3, 2009.
Elizabeth A. Davidson,
Director, Center for Reports Clearance, Social Security Administration.

[FR Doc. E9-18937 Filed 8-6-09; 8:45 am]

BILLING CODE 4191-02-P